FEDERAL COMMUNICATIONS COMMISSION

[FRS 16872]

Hospital Robocall Protection Group; Announcement of First Meeting

AGENCY: Federal Communications Commission.

ACTION: Notice.

SUMMARY: In accordance with the Federal Advisory Committee Act, this notice announces, and provides a preliminary agenda for the first meeting of the Federal Communications Commission's (Commission) Hospital Robocall Protection Group (HRPG).

DATES: Monday, July 27, 2020, beginning at 10:00 a.m. EDT.

ADDRESSES: Federal Communications Commission, 445 12th Street SW, Washington, DC 20554.

FOR FURTHER INFORMATION CONTACT: Donna Cyrus, Designated Federal Officer (DFO), at: (202) 418-7325 (voice) or email at: Donna.Cyrus@fcc.gov.

SUPPLEMENTARY INFORMATION:

Proposed Agenda: The agenda for the meeting will include introducing members of the HRPG, including the Committee Chair and Vice Chair, and establishing working groups that will assist the HRPG in carrying out its work. This agenda may be modified at the discretion of the HRPG Chair and the DFO. As will be discussed, the HRPG's mission is to issue best practices concerning (1) how voice service providers can better combat unlawful robocalls made to hospitals; (2) how hospitals can better protect themselves from such calls, including by using unlawful robocall mitigation techniques; and (3) how the Federal Government and State governments can help combat such calls. The meeting is being moved to a wholly electronic format in light of continuing travel restrictions affecting members of the HRPG related to public health concerns arising from the coronavirus (COVID-19) pandemic.

The July 27th meeting will be open to members of the general public via live broadcast over the internet from the FCC Live web page at http://www.fcc.gov/live/. The public may also follow the meeting on Twitter @fcc or via the Commission's Facebook page at www.facebook.com/fcc. Members of the public may submit any questions that arise during the meeting to livequestions@fcc.gov.

Open captioning will be provided for the live stream. Other reasonable accommodations for people with disabilities are available upon request. To request an accommodation, or for materials in accessible formats for people with disabilities (Braille, large print, electronic files, audio format), send an email to fcc504@fcc.gov or call the Consumer and Governmental Affairs Bureau at (202) 418-0530 (voice), (202) 418-0432 (TTY). Such requests should include a detailed description of the accommodation needed. In addition, please include a way for the Commission to contact the requester if more information is needed to fulfill the request. Please allow at least five days' advance notice; last-minute requests will be accepted but may not be possible to accommodate.

Federal Communications Commission.
Gregory Haledjian,
Legal Advisor, Office of the Bureau Chief, Consumer and Governmental Affairs Bureau.

[FR Doc. 2020-13372 Filed 6-19-20; 8:45 am]

BILLING CODE 6712-01-P